DEPARTMENT OF DEFENSE

Office of the Secretary

[Docket ID: DoD-2022-OS-0048]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 28, 2022.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Defense Human Resources Activity, 4800 Mark Center Drive, Suite 08F05 Alexandria, VA 22350, LaTarsha Yeargins, 571-372-2089.

SUPPLEMENTARY INFORMATION: Title; Associated Form; and OMB Number: Military Spouse Priority Placement Program Self-Certification Checklist; DD Form 3145-4; OMB Control Number 0704-MSSC.

Needs and Uses: The Military Spouse Priority Placement Program Self-Certification Checklist must be completed by military spouses when applying for appropriated funds GS-15 and below (or equivalent positions in other pay systems) in the competitive service or excepted service in order to receive priority consideration for competitive service and excepted service positions at DoD activities in the U.S., and in U.S. territories and possessions. The military spouses must provide evidence of their appointment eligibility, and evidence of marriage to a current active duty military member of the U.S. Armed Forces (including the U.S. Coast Guard and full-time National Guard or Military Reservist) with a copy of the permanent-change-of-station orders. This collection will be used by gaining DoD activities to certify preference eligibility for the possible appointment of the military spouse into their vacancy.

Affected Public: Individuals or households.

Annual Burden Hours: 138,724 hours.

Number of Respondents: 69,362.

Responses per Respondent: 4.

Annual Responses: 277,448.

Average Burden per Response: 30 minutes.

Frequency: On occasion.

Dated: April 26, 2022.
Aaron T. Siegel,
Alternate OSD Federal Register Liaison Officer, Department of Defense.

[FR Doc. 2022-09279 Filed 4-28-22; 8:45 am]

BILLING CODE 5001-06-P